FEDERAL COMMUNICATIONS COMMISSION

[FR ID 222500]

Deletion of Items From May 23, 2024 Open Meeting

May 22, 2024.

The following items have been deleted from the list of items scheduled for consideration at the Thursday, May 23, 2024, Open Meeting. Item Nos. 5 and 6 were adopted by the Commission on May 20, 2024. Item No. 2 was adopted and released on May 21, 2024. The items were previously listed in the Commission's Sunshine Notice on Thursday, May 16, 2024.

Item No. | Bureau | Subject
2 | MEDIA | Title: Restricted Adjudicatory Matter. Summary: The Commission will consider a restricted adjudicatory matter from the Media Bureau.
5 | ENFORCEMENT | Title: Enforcement Bureau Action. Summary: The Commission will consider an enforcement action.
6 | ENFORCEMENT | Title: Enforcement Bureau Action. Summary: The Commission will consider an enforcement action.

Federal Communications Commission.
Marlene Dortch,
Secretary.

[FR Doc. 2024-11781 Filed 5-28-24; 8:45 am]

BILLING CODE 6712-01-P